DEPARTMENT OF ENERGY

Federal Energy Regulatory Commission

[Docket No. RP03-2-001]

Transwestern Pipeline Company; Notice of Tariff Filing

December 31, 2002.

Take notice that on December 27, 2002, Transwestern Pipeline Company (Transwestern) tendered for filing as part of its FERC Gas Tariff, Second Revised Volume No. 1, Substitute Eleventh Revised Sheet No. 5B.03, to become effective November 1, 2002.

Pursuant to Section 25 of the General Terms and Conditions of Transwestern's FERC Gas Tariff, Transwestern states that it is filing a corrected tariff sheet, which sets forth the corrected TCR II Reservation Surcharges that Transwestern proposes to put into effect on November 1, 2002. Transwestern states that the tariff sheet Eleventh Revised Sheet No. 5B.03, previously submitted in its October 1 filing in Docket No. RP03-2-000 reflected incorrect rates for three Current Firm Shippers.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 8, 2003.

Linwood A. Watson, Jr.,
Deputy Secretary.

[FR Doc. 03-243 Filed 1-3-03; 8:45 am]

BILLING CODE 6717-01-P